DEPARTMENT OF ENERGY

Reimbursement for Costs of Remedial Action at Active Uranium and Thorium Processing Sites

AGENCY: Department of Energy.

ACTION: Notice of the acceptance of Title X claims during fiscal year (FY) 2010.

SUMMARY: This Notice announces the Department of Energy (DOE) acceptance of claims in FY 2010 from eligible active uranium and thorium processing site licensees for reimbursement under Title X of the Energy Policy Act of 1992. In FY 2009, Congress appropriated $70 million for Title X in the American Recovery and Reinvestment Act of 2009 (Recovery Act). In addition, Congress provided $10 million for Title X through the normal appropriation process. As of the end of FY 2009, there are approximately $36.6 million of Recovery Act funds available for reimbursement in FY 2010, as well as the $10 million provided by the FY 2009 appropriation. Approximately $14 million of the Recovery Act funds will be reimbursed to licensees in early calendar year 2010 following the review of claims received by May 1, 2009. In order to ensure DOE fully utilizes the Recovery Act funds provided for the Title X Program, licensees will be eligible to submit two separate claims in FY 2010. The first claim will be the final FY 2010 annual claim for costs of remedial action performed primarily during the previous calendar year. The second claim will address a portion of the remedial action costs incurred during calendar year 2010, effectively an early FY 2011 claim. The early submission of these claims will enable DOE to meet the specific requirements of the Recovery Act and obligate funding prior to the statutory deadline of September 30, 2010. As of this date it appears there will be no increase in FY 2010 to the uranium dry short ton ceiling, to the individual uranium licensee reimbursement ceilings, to the total amount authorized for reimbursement to the uranium licenses, or to the total amount authorized for reimbursement to the thorium licensee because the change in the average monthly Consumer Price Index for Urban Consumers from 2008 to 2009 is expected to be less than or equal to one. As a result, uranium licensees whose costs exceed the uranium dry short ton ceiling will not be eligible for reimbursement in FY 2010.

DATES: In order to utilize the Recovery Act funds most effectively, the Department will accept two claims from each licensee in FY 2010.

1. The first claim will be the final FY 2010 claim for any costs of remedial action performed prior to that claim submission date but not previously claimed. The closing date for submission of the final FY 2010 claims will be April 30, 2010. It is the intent of the Department to complete the review of the final FY 2010 claims and reimburse eligible claim amounts in January or February of 2011, but no later than April 29, 2011.

2. The second claim will be the partial FY 2011 claim for costs of remedial action performed subsequent to work claimed in the final FY 2010 claim but prior to the submission date. The closing date for submission of the partial FY 2011 claims will be August 24, 2010. The partial FY 2011 claims will be reviewed along with the final FY 2011 claims: The closing date for submission of final FY 2011 claims will be on or about April 29, 2011. The official date for submission of those claims will be published in the Federal Register about one year from now. Payment of the final FY 2011 claims will be made no later than the end of April 2012.

If the total of approved claim amounts exceeds the available funding, the approved claim amounts will be reimbursed on a prorated basis. All reimbursements are subject to the availability of funds from congressional appropriations.

ADDRESSES: Claims should be forwarded by certified or registered mail, return receipt requested, to Mr. David Alan Hicks, Title X Program Manager, U.S. Department of Energy/EMCBC, @ Denver Federal Center, P.O. Box 25547, Denver, Colorado 80225-0547. Two copies of the claim should be included with each submission.

FOR FURTHER INFORMATION CONTACT: Contact David Mathes at (301) 903-7222 of the U.S. Department of Energy, Office of Environmental Management, Office of Disposal Operations.

SUPPLEMENTARY INFORMATION: DOE published a final rule under 10 CFR Part 765 in the Federal Register on May 23, 1994, (59 FR 26714) to carry out the requirements of Title X of the Energy Policy Act of 1992 (sections 1001-1004 of Pub. L. 102-486, 42 U.S.C. 2296a et seq.) and to establish the procedures for eligible licensees to submit claims for reimbursement. DOE amended the final rule on June 3, 2003, (68 FR 32955) to adopt several technical and administrative amendments (e.g., statutory increases in the reimbursement ceilings). Title X requires DOE to reimburse eligible uranium and thorium licensees for certain costs of decontamination, decommissioning, reclamation, and other remedial action incurred by licensees at active uranium and thorium processing sites to remediate byproduct material generated as an incident of sales to the United States Government. To be reimbursable, costs of remedial action must be for work which is necessary to comply with applicable requirements of the Uranium Mill Tailings Radiation Control Act of 1978 (42 U.S.C. 7901 et seq.) or, where appropriate, with requirements established by a State pursuant to a discontinuance agreement under section 274 of the Atomic Energy Act of 1954 (42 U.S.C. 2021). Claims for reimbursement must be supported by reasonable documentation as determined by DOE in accordance with 10 CFR part 765. Funds for reimbursement will be provided from the Uranium Enrichment Decontamination and Decommissioning Fund established at the Department of Treasury pursuant to section 1801 of the Atomic Energy Act of 1954 (42 U.S.C. 2297g). Payment or obligation of funds shall be subject to the requirements of the Anti-Deficiency Act (31 U.S.C. 1341).

Authority: Section 1001-1004 of Public Law 102-486, 106 Stat. 2776 (42 U.S.C. 2296a et seq.).

Issued in Washington, DC on this 15th day of December 2009.
David E. Mathes,
Office of Disposal Operations, Office of Technical and Regulatory Support.

[FR Doc. E9-30624 Filed 12-24-09; 8:45 am]

BILLING CODE 6450-01-P